DEPARTMENT OF ENERGY

Federal Energy Regulatory Commission

[Docket Nos. CP15-115-001; CP15-115-000]

National Fuel Gas Supply Corporation Empire Pipeline, Inc.; Notice of Amendment to Application

Take notice that on November 2, 2015, National Fuel Gas Supply Corporation (National Fuel) and Empire Pipeline, Inc. (Empire), 6363 Main Street, Williamsville, New York 14221, filed an amendment to their application in Docket Number CP15-115-000, pursuant to sections 7(b) and 7(c) of the Natural Gas Act (NGA) and Part 157 of the Commission's Regulations, for a certificate of public convenience and necessity to construct and operate the Northern Access 2016 Project (the “Project”), and authorization to abandon and acquire certain related facilities. The Project will be located in McKean County, Pennsylvania and Alleghany, Cattaraugus, Erie and Niagara Counties, New York. The filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Kenneth E. Webster, Attorney for National Fuel and Empire, 6363 Main Street, Williamsville, New York 14221, or call at (716) 857-7067.

Specifically, National Fuel requests authorization: (i) To construct 96.49 miles of 24-inch diameter pipeline; (ii) to add 5,350 horsepower (hp) of compression at the Porterville, New York compressor station; (iii) to construct an interconnect meter and regulation (M&R) station with Tennessee Gas Pipeline Company, L.L.C.'s 200 Line; (iv) to construct an M&R station and tie-in in Hinsdale, New York; (v) to construct an interconnection with NFG Midstream Clermont, L.L.C.; (vi) to construct a new tie-in; (vii) to construct a pressure reduction station; (viii) to abandon, via sale to Empire, 1.08 miles of National Fuel's existing Line XM-10 pipeline and certain other existing facilities; (ix) to charge an initial incremental firm recourse rate for the Project; and (x) for a limited waiver of General Terms and Conditions Section 31.1 of National Fuel's tariff to permit the Project's Foundation Shipper to shift its primary delivery point for a portion of the Project's incremental capacity more than ninety days after its initial request. National Fuel proposes to provide 497,000 dekatherms per day of new firm natural gas transportation capacity.

Empire requests authorization to: (i) Construct a new 22,214 hp compressor station in Pendleton, New York; (ii) construct and operate approximately 0.90 miles of 16-inch pipeline; (iii) construct and operate approximately 1.17 miles of 24-inch pipeline; (iv) construct a new dehydration facility; (v) construct two new tie-ins; and (vi) acquire from National Fuel the aforementioned 1.08 miles of Line XM-10. Empire proposes to provide 350,000 dekatherms per day of new firm natural gas transportation capacity.

National Fuel and Empire request authorization to abandon their jointly owned meter station along Line XM-10 in Pendleton, New York. The total cost of the Project would be approximately $376,670,388 (National Fuel) and $78,710,359 (Empire).

Pursuant to section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5:00 p.m. Eastern Time on November 25, 2015.

Dated: November 4, 2015.
Nathaniel J. Davis, Sr.,
Deputy Secretary.

[FR Doc. 2015-28634 Filed 11-10-15; 8:45 am]

BILLING CODE 6717-01-P